DEPARTMENT OF DEFENSE

Office of the Secretary

[Docket ID: DOD-2012-OS-0051]

Privacy Act of 1974; System of Records

AGENCY: Office of the Defense Logistics Agency, DoD.

ACTION: Notice to alter a system of records.

SUMMARY: The Defense Logistics Agency proposes to alter a system of records in its inventory of record systems subject to the Privacy Act of 1974 (5 U.S.C. 552a), as amended.

DATES: This proposed action will be effective on June 4, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler, DLA/FOIA/Privacy Act Office, Headquarters, Defense Logistics Agency, ATTN: DGA, 8725 John J. Kingman Road, Suite 1644, Fort Belvoir, VA 22060-6221, or by phone at (703) 767-5045.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on April 27, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 30, 2012.
Aaron Siegel,
Alternate OSD Federal Register Liaison Officer, Department of Defense.

S400.30

System name:

Mass Transportation Fringe Benefit Program—Outside the National Capital Region (September 22, 2009, 74 FR 48233).

Changes:

* * * * *

System name:

Delete “Fringe” from entry.

System location:

Delete entry and replace with “Headquarters, Defense Logistics Agency, 8725 John J. Kingman Road, Suite 6220, ATTN: DS-B, DLA Installation Support, Fort Belvoir, VA 22060-6221 and the Defense Logistics Agency (DLA) Primary Level Field Activities located outside the National Capital Region. Official mailing addresses are published as an appendix to DLA's compilation of systems of records notices. U.S. Department of Transportation, TRANServe, 1200 New Jersey Avenue SE., Room W12-190, Washington, DC 20590-0001.”

Categories of individuals covered by the system:

Delete entry and replace with “Defense Logistics Agency (DLA) civilian employees; non-appropriated funded employees; interns/students employed and paid directly by DLA (i.e., interns/students hired through contractual agreements are not eligible); eligible interns/students hired for the summer months; and registered and nonregistered vanpool owners/operators.”

Categories of records in the system:

Delete entry and replace with “Records include applicant's full name, personalized 4-digit personal identification number (PIN), home address, office symbol and duty location, office telephone number, mode of transportation being used, cost(s) of commuting, reimbursement claim for expenditures, period covered, amount of reimbursement, records of vouchers, receipts or payments distributed, dates of participation and termination in program, and vanpool owner/operator certification.”

Authority for maintenance of the system:

Delete “and E.O. 9397 (SSN) as amended” from entry.

Purpose(s):

Delete “Fringe” from first paragraph.

* * * * *

Retrievability:

Delete entry and replace with “Information is retrieved by individual's name and a personalized 4-digit personal identification number (PIN).”

Safeguards:

Delete entry and replace with “Paper records are maintained in a controlled facility. Physical entry is restricted by the use of locks, guards, and is accessible only to authorized personnel. Access to records is limited to person(s) responsible for servicing the records in the performance of their official duties and who are properly screened and cleared for need-to-know. Electronic records are maintained by the on Site Point of Contact computer drive. Access is restricted to the Point of Contact who can only access with secured user identification controls such as a common access card (CAC), personalized password, and key encryption. All individuals granted access to this system of records have received Privacy Act training.”

* * * * *

System manager(s) and address:

Delete entry and replace with “ONCR Program Manager, Headquarters, Defense Logistics Agency, 8725 John J. Kingman Road, Suite 2638, ATTN: DS-B, DLA Installation Support, Fort Belvoir, VA 22060-6221, and the ONCR Mass Transportation Benefit Program Points of Contact at the DLA Primary Level Field Activity. Official mailing addresses are published as an appendix to DLA's compilation of systems of records notices.”

Notification procedure:

Delete entry and replace with “Individuals seeking to determine whether information about themselves is contained in this system should address written inquiries to the DLA FOIA/Privacy Act Office, Headquarters, Defense Logistics Agency, ATTN: DGA, 8725 John J. Kingman Road, Suite 1644, Fort Belvoir, VA 22060-6221.

Written inquiries should contain the full name of the record subject, current address, telephone number, and the DLA Primary Level Field Activity which provided the subsidy.”

Record access procedures:

Delete entry and replace with “Individuals seeking access to information about themselves contained in this system should address written inquiries to the DLA FOIA/Privacy Act Office, Headquarters, Defense Logistics Agency, ATTN: DGA, 8725 John J. Kingman Road, Suite 1644, Fort Belvoir, VA 22060-6221.

Written inquiries should contain the full name of the record subject, current address, telephone number, and the DLA Primary Level Field Activity which provided the subsidy.”

Contesting record procedures:

Delete entry and replace with “The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.”

* * * * *

[FR Doc. 2012-10684 Filed 5-2-12; 8:45 am]

BILLING CODE 5001-06-P